DEPARTMENT OF HOMELAND SECURITY

Directorate of Information Analysis and Infrastructure Protection (IAIP)

[DHS-2004-0032]

Open Meeting of National Infrastructure Advisory Council (NIAC)

AGENCY: Directorate of Information Analysis and Infrastructure Protection, DHS.

ACTION: Notice of meeting.

SUMMARY: The National Infrastructure Advisory Council (NIAC) will meet on Tuesday, January 11, 2005, from 1 p.m. to 4 p.m. at the Hamilton Crowne Plaza in Washington, DC. The meeting will be open to the public. Limited seating will be available. Reservations are not accepted.

The NIAC advises the President of the United States on the security of critical infrastructures which include banking and finance, transportation, energy, manufacturing, and emergency government services. At this meeting, the NIAC will be briefed on the status of several Working Group activities that the Council undertook at its last meeting.

DATES: The NIAC will meet Tuesday, January 11, 2005, from 1 p.m. to 4 p.m.

ADDRESSES: The NIAC will meet at the Hamilton Crowne Plaza, 14th and K Street, NW., Washington, DC. You may submit comments, identified by DHS Docket DHS-2004-0032 by one of the following methods:

• EPA Federal Partner EDOCKET Web Site: http://www.epa.gov/feddocket. Follow the instructions for submitting comments on the Web site.

• Federal eRulemaking Portal: http://www.regulations.gov. Follow the instructions for submitting comments.

• Mail/Hand Delivery/Courier: Department of Homeland Security, Attn: Ms. Nancy J. Wong, Infrastructure Coordination Division, Directorate of Information Analysis and Infrastructure Protection/703-235-5352, Anacostia Navel Annex, 245 Murray Lane, SW., Building 410, Washington, DC 20528, 7:30 a.m. to 4 p.m.

Instructions: All submissions received must include the DHS-2004-0032. All comments received will be posted without change to http://www.epa.gov/feddocket, including any personal information provided.

FOR FURTHER INFORMATION CONTACT: Nancy J. Wong, NIAC Designated Federal Official, telephone 703-235-5352.

SUPPLEMENTARY INFORMATION: Notice of these meetings is given under the Federal Advisory Committee Act, 5 U.S.C. App. 2.

Agenda of Committee Meeting on January 11, 2005
I. Opening of Meeting | Nancy J. Wong, U.S. Department of Homeland Security (DHS)/Designated Federal Officer, NIAC.
II. Roll Call of Members | Nancy J. Wong.
III. Opening Remarks and Introductions | NIAC Chairman, Erle A. Nye, Chairman of the Board, TXU Corporation.
| NIAC Vice Chairman, John T. Chambers, Chairman and CEO, Cisco Systems, Inc.
| The Honorable Tom Ridge, Secretary, Department of Homeland Security (Invited).
| Lt. Gen. Frank Libutti, Under Secretary for Information Analysis and Infrastructure Protection (IAIP), DHS (Invited).
| Robert P. Liscouski, Assistant Secretary for Infrastructure Protection, DHS (Invited).
| Frances Fragos Townsend, Special Assistant to the President for Critical Infrastructure.
IV. Introduction and Welcome of New NIAC Members | NIAC Chairman Erle A. Nye.
V. Ethics Briefing | Robert Coyle, DHS Office of Government Ethics.
VI. Approval of October Minutes | NIAC Chairman Erle A. Nye.
VII. Briefing of the New DHS Sector Partnership Model | Mr. R. James Caverly, Director, Infrastructure Coordination Division, DHS.
VIII. Status Reports on Current Initiatives | NIAC Chairman Erle A. Nye Presiding.
A. Intelligence Process and Work Products Regarding Critical Infrastructures | NIAC Vice Chairman John T. Chambers, Chairman & CEO, Cisco Systems, Inc. and Chief Gilbert Gallegos, Police Chief, City of Albuquerque, New Mexico, NIAC Member.
B. Risk Management Approaches Protection | Thomas E. Noonan, Chairman, President to & CEO, Internet Security Systems, Inc., NIAC Member; Martha Marsh, President & CEO, Stanford Hospital and Clinics, NIAC Member.
C. Assuring Adequate National Intellectual Capital to Secure Cyber-Based Critical Infrastructures | Alfred R. Berkeley III, e-Xchange Advantage Corp., NIAC Member and Dr. Linwood Rose, President, James Madison University, NIAC Member.
IX. Reports Related to Past NIAC Recommendations | NIAC Chairman Erle A. Nye Presiding.
A. Summary of NIAC Recommendations by Subject Area | Nancy J. Wong, U.S. Department of Homeland Security (DHS)/Designated Federal Official, NIAC.
X. Presentation/Discussion of DHS/DOJ Cyber Security Survey | Presentation by Patrick J. Morrissey, Deputy Director, Law Enforcement and Intelligence, National Cyber Security Division (NCSD), Department of Homeland Security.
XI. New Business | NIAC Chairman Erle A. Nye, NIAC Members.
XII. Adjournment | NIAC Chairman Erle A. Nye.

Procedural

These meetings are open to the public. Please note that the meetings may close early if all business is finished.

Information on Services for Individuals With Disabilities

For information on facilities or services for individuals with disabilities, or to request special assistance at the meeting, telephone the Designated Federal Official as soon as possible.

Dated: December 13, 2004.
Nancy J. Wong,
Designated Federal Official for NIAC.

[FR Doc. 04-28206 Filed 12-23-04; 8:45 am]

BILLING CODE 4410-10-P